DEPARTMENT OF COMMERCE

International Trade Administration

[Docket No. A-570-846]

Brake Rotors from the People's Republic of China: Extension of Time Limit for Final Results of 2004/2005 Antidumping Duty Administrative and New Shipper Reviews

AGENCY: Import Administration, International Trade Administration, Department of Commerce.

EFFECTIVE DATE: October 25, 2006.

FOR FURTHER INFORMATION CONTACT: Erin C. Begnal or Christopher D. Riker, AD/CVD Operations, Office 9, Import Administration, International Trade Administration, U.S. Department of Commerce, 14th Street and Constitution Avenue, NW., Washington, DC 20230; telephone: (202) 482-1442 or (202) 482-3441, respectively.

Background

On May 8, 2006, the Department of Commerce (“Department”) published the preliminary results of the administrative review of the antidumping duty order on brake rotors from the People's Republic of China for the period April 1, 2004, through March 31, 2005. See Brake Rotors from the People's Republic of China: Preliminary Results and Partial Rescission of the 2004/2005 Administrative Review and Preliminary Notice of Intent to Rescind the 2004/2005 New Shipper Review, 71 FR 26736 (May 8, 2006). On August 16, 2006, the Department published a notice of extension of time limit for the final results of this administrative review extending the time limit for the final results by 45 days until October 20, 2006. See Brake Rotors from the People's Republic of China: Extension of Time Limit for Final Results of Antidumping Duty Administrative and New Shipper Reviews, 71 FR 47169 (August 16, 2006). The final results of this administrative review are currently due October 20, 2006.

Extension of Time Limit for Final Results

Pursuant to section 751(a)(3)(A) of the Tariff Act of 1930, as amended (“the Act”), and section 351.213(h)(1) of the Department's regulations, the Department shall issue final results in an administrative review of antidumping duty order within 120 days after the date on which the notice of preliminary results is published in the Federal Register. However, if the Department determines that it is not practicable to complete the review within the specified time period, section 751(a)(3)(A) of the Act allows the Department to extend this deadline to 180 days.

Completion of the final results within the originally anticipated time limit, October 20, 2006, is impracticable because the Department requires additional time to address the comments of the interested parties as raised in their June 19, 2006, briefs, June 27, 2006, rebuttal briefs, July 17, 2006, comments on bentonite and coal powder usage, and July 24, 2006, rebuttal comments on this issue. Because it is not practicable to complete the review within the time specified under the Act, the Department is extending the time limit for completion of the final results by 15 days to November 4, 2006, in accordance with Section 751(a)(3)(A) of the Act. However, because November 4, 2006, falls on a Saturday, the signature day will roll over to the next business day, November 6, 2006, in accordance with our practice. See Notice of Clarification: Application of Next Business Day Rule for Administrative Determination Deadlines Pursuant to the Tariff Act of 1930, As Amended, 70 FR 24533 (May 10, 2005).

Additionally, on April 29, 2005, Shanxi Zhongding Auto Parts Co. Ltd. agreed to waive the time limits of its new shipper review, pursuant to 19 CFR 351.214(j)(3), and to have its review conducted concurrently with the 2004/2005 administrative review of this order for the period April 1, 2004, through March 31, 2005. Therefore, the final results of this new shipper review will also be extended by 15 days to November 6, 2006.

Dated: October 18, 2006.
Stephen J. Claeys,
Deputy Assistant Secretary for Import Administration

[FR Doc. 06-8896 Filed 10-21-06; 8:45 am]

BILLING CODE 3510-DS-M